DEPARTMENT OF HOMELAND SECURITY

Coast Guard

33 CFR Part 117

[Docket No. USCG-2012-0305]

Drawbridge Operation Regulations; Niantic River, Niantic, CT

AGENCY: Coast Guard, DHS.

ACTION: Notice canceling temporary deviation from regulations.

SUMMARY: The Coast Guard is canceling the temporary deviation published on May 2, 2012 (77 FR 25889) concerning the operation of the Amtrak Railroad Bridge across the Niantic River, mile 0.0, at Niantic, Connecticut.

DATES: The temporary deviation published on May 2, 2012 (77 FR 25889) is cancelled as of July 14, 2012.

ADDRESSES: The docket for this cancelled deviation is available for inspection or copying at the Docket Management Facility (M-30), U.S. Department of Transportation, West Building Ground Floor, Room W12-140, 1200 New Jersey Avenue SE., Washington, DC 20590, between 9 a.m. and 5 p.m., Monday through Friday, except Federal holidays. You may also find this docket on the Internet by going to http://www.regulations.gov, inserting USCG-2012-0305 in the “Keyword” box and then clicking “Search”.

FOR FURTHER INFORMATION CONTACT: Ms. Judy Leung-Yee, Project Officer, First Coast Guard District, telephone (212) 668-7165, email judy.k.leung-yee@uscg.mil.

SUPPLEMENTARY INFORMATION:

Basis and Purpose

On May 2, 2012, we published a temporary deviation entitled “Drawbridge Operations: Niantic River, Niantic, CT” in the Federal Register (77 FR 25889) for the Amtrak Railroad Bridge, across the Niantic River, mile 0.0, at Niantic, Connecticut. This deviation from the operating regulations was authorized under 33 CFR 117.35.

Cancellation

The Coast Guard previously issued a temporary deviation to Amtrak published on May 2, 2012 (77 FR 25889) to allow their bridge to remain in the closed position from 11 p.m. through 6 a.m., Monday through Thursday, beginning May 15, 2012 until August 15, 2012. The temporary deviation was necessary to facilitate completion of machinery installation and lift span work at the new railroad bridge.

In May 2012, the contractor building the bridge discovered a minor shift in the bascule pier, causing a misalignment of the new bridge. Until the pier alignment problem is resolved, the work anticipated to be completed during the closures authorized under the May 2, 2012 (77 FR 25889) temporary deviation could not be completed.

In order to complete all the remaining work and correct the pier alignment problem a new temporary deviation is required authorizing a 48 hour bridge closure from 9 p.m. July 15 to 9 p.m. July 17, 2012 and a series of overnight closures between July 22 and August 22, 2012.

As a result of all the above information it was determined that the temporary deviation published on May 2, 2012 (77 FR 25889) must be cancelled on July 14, 2012.

Dated: July 9, 2012.
Gary Kassof,
Bridge Program Manager, First Coast Guard District.

[FR Doc. 2012-17580 Filed 7-18-12; 8:45 am]

BILLING CODE 9110-04-P